DEPARTMENT OF THE TREASURY

Promoting Energy Independence and Economic Growth; Request for Information

AGENCY: Department of the Treasury.

ACTION: Request for information.

SUMMARY: Through this request for information, the Department of the Treasury is soliciting input from the public on implementation and compliance with Executive Order 13783, Promoting Energy Independence and Economic Growth.

DATES: Comment due date: July 14, 2017.

ADDRESSES: Interested persons are invited to submit comments in response to this notice according to the instructions below. All submissions must refer to the document title. Treasury encourages the early submission of comments.

Electronic Submission of Comments. Interested persons must submit comments electronically through the Federal eRulemaking Portal at http://www.regulations.gov. Electronic submission of comments allows the commenter maximum time to prepare and submit a comment, ensures timely receipt, and enables the Department to make comments available to the public. Comments submitted electronically through the http://www.regulations.gov Web site can be viewed by other commenters and interested members of the public. Commenters should follow the instructions provided on that site to submit comments electronically.

Public Inspection of Comments. In general, all properly submitted comments will be available for inspection and downloading at http://www.regulations.gov.

Additional Instructions. In general, comments received, including attachments and other supporting materials, are part of the public record and are made available to the public. Do not enclose any information in your comment or supporting materials that you consider confidential or inappropriate for public disclosure.

FOR FURTHER INFORMATION CONTACT: Heidi Cohen, Office of the General Counsel at 202-622-1142.

SUPPLEMENTARY INFORMATION: Executive Order 13783, published on March 28, 2017, states that it is in the national interest to promote clean and safe development of energy resources, while at the same time avoiding regulatory burdens that unnecessarily encumber energy production, constrain economic growth, and prevent job creation. Section 2 of the Order requires the head of each executive department and agency to review all of the agency's existing regulations, orders, guidance documents, policies, and any other similar agency actions that potentially burden the development or use of domestically produced energy resources, with particular attention to oil, natural gas, coal, and nuclear energy resources.

The Department of the Treasury, pursuant to Executive Order 13783, is undertaking a review of its regulatory, subregulatory, and other policy documents that could potentially burden the safe, efficient development of domestic energy resources. To assist in this effort, the Department invites members of the public to submit views or recommendations on those items, including regulations, forms, policies, orders, and related documents, the removal or modification of which could reduce burdens as outlined in the Executive Order. Comments should include specific references to form numbers, citations, or other identifiers and should include a description of the burden imposed and how it could best be addressed (e.g., through repeal, modification, streamlining efforts, regulatory flexibilities, etc.).

The Department advises that this notice and request for comments is issued for information and policy development purposes. Although the Department encourages responses to this notice, such comments do not bind the Department to take any further actions related to the submission.

Dated: June 27, 2017.
Brian Callanan,
Acting General Counsel.

[FR Doc. 2017-14100 Filed 7-5-17; 8:45 am]

BILLING CODE 4810-25-P